DEPARTMENT OF ENERGY

Federal Energy Regulatory Commission

[Project No. 2520-076]

Great Lakes Hydro America, LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Major License.

b. Project No.: 2520-076.

c. Date filed: August 31, 2016.

d. Applicant: Great Lakes Hydro America, LLC (Great Lakes Hydro).

e. Name of Project: Mattaceunk Hydroelectric Project.

f. Location: The existing project is located on the Penobscot River in Aroostook and Penobscot Counties, Maine. The project does not affect federal lands.

g. Filed Pursuant to: Federal Power Act 16 U.S.C. 791 (a)-825(r).

h. Applicant Contact: Kevin Bernier, Senior Compliance Specialist, Great Lakes Hydro America, LLC, 1024 Central Street, Millinocket, Maine 04462; Telephone (207) 723-4341, x118.

i. FERC Contact: Adam Peer, (202) 502-8449 or adam.peer@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2520-076.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Mattaceunk Hydroelectric Project consists of: (1) A 1,060-foot-long, 45-foot-high dam (Weldon Dam) with a crest elevation of 236.0 feet (USGS datum), and includes: (i) A 110-foot-long earthen embankment extending to the left abutment; (ii) a combined intake and powerhouse structure; (iii) an upstream fish ladder; (iv) a 10-foot-wide log sluice structure, controlled by an 8-foot-high vertical slide gate; (v) a 90-foot-long, 19-foot-high gated spillway with a single roller gate; (vi) a 657.5-foot-long, 70-foot high concrete gravity overflow spillway with 4-foot-high flashboards to create a maximum flashboard crest elevation of 240.0 feet; and (vii) a retaining wall at the right abutment; (2) a 1,664-acre reservoir with a total storage capacity of 20,981 acre-feet at a normal pool elevation of 240.00 feet (USGS datum); (3) a 142-foot-long, 99-foot-wide powerhouse (Weldon Station) integral to the dam containing two Kaplan turbines rated at 5,479 kilowatt (kW) and two fixed-blade propeller turbines rated at 5,489 kW, each driving a 6,000 kilovolt-ampere (kVA), 4,800 kW vertical synchronous generator for an authorized installed capacity of 19.2 megawatts (MW); (4) a downstream fishway; (5) an outdoor substation adjacent to the powerhouse; (6) a 9-mile-long, 34.5-kilovolt (kV) transmission line within a 120-foot-wide right of way; and (7) appurtenant facilities. The project generates about 123,332 megawatt-hours (MWh) annually.

The Mattaceunk Project is operated with minimal fluctuations of the reservoir surface elevation. Flexibility on reservoir elevations is required to provide for safe installation of the project's flashboards and to allow an adequate margin for wave action, debris loads, or sudden pool increases that might cause flashboard failure. The existing license requires a reservoir surface elevation no lower than 1.0 foot below the dam crest elevation of 236.0 feet when the 4-foot-high flashboards are not in use, and no lower than 2.0 feet below the top of flashboard elevation of 240.0 feet when the 4-foot-high flashboards are in use. The existing license also requires a year-round continuous minimum flow of 1,674 cubic feet per second (cfs) or inflow, whichever is less, and a daily average minimum flow of 2,392 cfs from July 1 through September 30 and 2,000 cfs from October 1 through June 30, unless inflow is less than the stated daily average minimum flows (in which case outflow from the project must equal the inflow to the project). Great Lakes Hydro proposes to: (1) Install a seasonal upstream eel ramp; (2) install an upstream passage structure for American shad, alewife, and blueback herring; (3) install trashracks having 1-inch clear spacing to the full depth of the turbine intakes during the fish passage season; and (4) improve the recreation facility at the downstream angler access area.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Filing of recommendations, preliminary terms and conditions, and preliminary fishway prescriptions | May 2017.
Commission issues Draft EA or EIS | November 2017.
Comments on Draft EA or EIS | December 2017.
Modified Terms and Conditions | February 2017.
Commission Issues Final EA or EIS | May 2018.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: March 24, 2017.
Kimberly D. Bose,
Secretary.

[FR Doc. 2017-06422 Filed 3-31-17; 8:45 am]

BILLING CODE 6717-01-P